DEPARTMENT OF TRANSPORTATION

Federal Aviation Administration

14 CFR Part 39

[Docket No. FAA-2009-0431; Directorate Identifier 2007-NM-174-AD]

RIN 2120-AA64

Airworthiness Directives; Airbus Model A310-203 and -222 Airplanes and Model A300 B4-620 Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

DGAC [Direction Générale de l'Aviation Civile] France AD 86-102-74(B) [which corresponds to FAA AD 88-06-03, amendment 39-5871] was issued to prevent development of damage, which was discovered during [a] fatigue test in the attachment angles of the rear pressure bulkhead (fuselage frame 80/82).

Following the life extension activities linked to the A310 program, the interval of inspection for A310-200 aircraft series was reduced from 12000 flight cycles (FC) to 9000 FC * * *.

Some stress analysis conducted in the frame of the life extension activities of the A300-600 program leads the manufacturer to reduce as well the interval of inspection applicable to A300B4-620 and A300C4-620 aircraft models.

The unsafe condition is cracking in the attachment angles of the rear pressure bulkhead, which could result in failure of the rear pressure bulkhead. The proposed AD would require actions that are intended to address the unsafe condition described in the MCAI.

DATES: We must receive comments on this proposed AD by June 8, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2009-0431; Directorate Identifier 2007-NM-174-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 3, 1988, we issued AD 88-06-03, Amendment 39-5871 (53 FR 7730, March 10, 1988). That AD required actions intended to address an unsafe condition on the products listed above.

Since we issued AD 88-06-03, the European Aviation Safety Agency (EASA), which is the Technical Agent for the Member States of the European Community, advised that, due to life extension activities linked to the A310 program and stress analysis conducted in the frame of the life extension activities of the A300-600 program, the repetitive inspection interval for the attachment angles of the rear pressure bulkhead has been reduced from 12,000 flight cycles to 9,000 flight cycles for Model A310-203 and -222 airplanes and Model A300 B4-620 airplanes.

EASA has issued Airworthiness Directive 2007-0297R1, dated September 17, 2008 (referred to after this as “the MCAI”), to correct an unsafe condition for the specified products. The MCAI states:

DGAC [Direction Générale de l'Aviation Civile] France AD 86-102-74(B) [which corresponds to FAA AD 88-06-03] was issued to prevent development of damage, which was discovered during [a] fatigue test in the attachment angles of the rear pressure bulkhead (fuselage frame 80/82).

Following the life extension activities linked to the A310 program, the interval of inspection for A310-200 aircraft series was reduced from 12000 flight cycles (FC) to 9000 FC, which prompted the issuance of EASA AD 2007-0157, superseding DGAC France AD 86-102-74(B).

Some stress analysis conducted in the frame of the life extension activities of the A300-600 program leads the manufacturer to reduce as well the interval of inspection applicable to A300B4-620 and A300C4-620 aircraft models.

EASA AD 2007-02977 superseded EASA AD 2007-0157, retaining for A310 aircraft the requirements of EASA AD 2007-0157 and requiring the application of Airbus Service Bulletin (SB) A300-53-6005 Revision 4 on Airbus A300-600 aircraft, reducing the inspection interval from 12000 FC to 9000 FC.

[EASA] AD [2007-0297] has been revised to remove an inappropriate reference regarding the normal inspection program from the Compliance section, Note 3.

The unsafe condition is cracking in the attachment angles of the rear pressure bulkhead, which could result in failure of the rear pressure bulkhead. The required actions include a modification of the rear pressure bulkhead to improve the fatigue life of the attachment angles at frame (FR) 80/82, and, for certain airplanes, repetitive inspections for cracks in the rear pressure bulkhead and repair if necessary.

The modification includes installing additional attachment angles on the circumference of FR 80/82; installing a filler; installing additional supports between the aft pressure bulkhead and FR 80/82; installing an additional frame stiffener and support between the aft pressure bulkhead and FR 79 at stringer (STGR) 13; modifying the aft lavatories; applying surface protection to the modified area of the aft pressure bulkhead; modifying, reidentifying, and installing the heat and sound insulation in the area of STGR 9 and STGR 13 and between FR 79 and FR 80/82, left and right; and for certain airplanes, doing related investigative and corrective actions if necessary.

The related investigative action is doing a visual inspection around the entire circumference between FR 80/82 and the aft pressure bulkhead for damaged filler. The corrective action is removing any damaged filler and the adjacent area around the damage.

We have removed Airbus Model A310-221 airplanes having serial numbers 295 and 0306 from the applicability of this proposed AD. The MCAI does not include Airbus Model A310-221 in its applicability as it has been determined that those airplanes are not subject to the identified unsafe condition addressed by the relevant service information listed below. However, those airplanes are subject to certain other actions required by AD 2006-22-03, amendment 39-14800 (71 FR 62890, October 27, 2006), as specified in the “Other Relevant Rulemaking” paragraph below.

You may obtain further information by examining the MCAI in the AD docket.

Relevant Service Information

Airbus has issued the following service bulletins:

• Airbus Service Bulletin A310-53-2024, Revision 05, dated October 13, 2006.

• Airbus Service Bulletin A310-53-2025, Revision 06, dated August 3, 2006.

• Airbus Service Bulletin A300-53-6005, Revision 04, dated July 18, 2007.

• Airbus Service Bulletin A300-53-6006, Revision 3, dated March 24, 1989.

The actions described in this service information are intended to correct the unsafe condition identified in the MCAI.

Other Relevant Rulemaking

We issued AD 2006-22-03 to prevent corrosion on the inner rim angle and cleat profile splice of the aft pressure bulkhead. That AD applies to Airbus Model A310 and A300-600 series airplanes, except airplanes on which Airbus Modification 6788 has been incorporated in production. That AD requires modification of the aft pressure bulkhead for improved corrosion protection and drainage, and a related concurrent action.

The related concurrent action specified in paragraph (h) of AD 2006-22-03 is a modification of the aft pressure bulkhead in accordance with Airbus Service Bulletin A310-53-2025, Revision 06, dated August 3, 2006, and Airbus Service Bulletin A300-53-6006, Revision 3, dated March 24, 1989, as applicable (which is the same modification that this NPRM would require). The compliance time to do the modification specified in paragraph (h) of AD 2006-22-03 is prior to or concurrent with the actions specified in paragraph (g) of AD 2006-22-03; the compliance time for paragraph (g) of AD 2006-22-03 is within 60 months after December 1, 2006 (the effective date of AD 2006-22-03). This NPRM would supersede AD 2006-22-03 to require that the modification of the aft pressure bulkhead be done before the accumulation of 12,000 total flight cycles since first flight, or within 1,500 flight cycles, whichever occurs later.

Certain airplanes affected by AD 2006-22-03 are also affected by this NPRM, and therefore, the requirements of this NPRM would necessitate that some operators do the modification required by paragraph (h) of AD 2006-22-03 early. Accomplishing the modification within the compliance time specified in paragraph (f)(2) of this NPRM is necessary to address cracking in the attachment angles of the rear pressure bulkhead, which could result in failure of the rear pressure bulkhead.

Other Corrosion and Fatigue ADs

Operators should note that we have also issued other ADs that involve work in the area of the aft pressure bulkhead. We issued those ADs to address unsafe conditions related to either corrosion or fatigue in the aft pressure bulkhead. The following table, titled “Other relevant rulemaking,” provides an overview of all those issued ADs.

Table—Other Relevant Rulemaking
AD— | Refers to Airbus Service Bulletin— | Requiring— | Addressing—
88-06-03 (would be superseded by this proposed AD) | A310-53-2024, Revision 1, dated June 20, 1986; and Revision 3, February 17, 1987 | Repetitive inspections | Fatigue.
| A310-53-2025, original issue, dated April 21, 1986; and Revision 3, April 7, 1987 | Modification | Fatigue.
98-19-22, amendment 39-10763 (63 FR 49656, September 17, 1998) (superseded by AD 2005-26-16) | A300-53-6066, dated October 16, 1996; and Revision 01, dated March 11, 1998 | Repetitive inspections | Corrosion.
| A310-53-2092, dated October 16, 1996; and Revision 01, dated March 11, 1998 | Repetitive inspections | Corrosion.
2005-26-16, amendment 39-14437 (70 FR 77307, December 30, 2005) | A300-53-6136, Revision 01, dated July 18, 2005 | Repetitive inspections | Corrosion.
| A310-53-2114, Revision 01, dated September 1, 2005 | Repetitive inspections | Corrosion.
2006-22-03, amendment 39-14800 (71 FR 62890, October 27, 2006) | A300-53-6017, Revision 02, dated February 25, 2004 | Modification | Corrosion.
| A310-53-2036, Revision 02, dated February 25, 2004 | Modification | Corrosion.
| A300-53-6006, Revision 3, March 24, 1989 | Modification | Fatigue.
| A310-53-2025, Revision 06, August 3, 2006 | Modification | Fatigue.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 32 products of U.S. registry. We also estimate that it would take 668 work-hours per product to comply with the basic requirements of this proposed AD. The average labor rate is $80 per work-hour. Required parts would cost about $15,322 per product. Where the service information lists required parts costs that are covered under warranty, we have assumed that there will be no charge for these costs. As we do not control warranty coverage for affected parties, some parties may incur costs higher than estimated here. Based on these figures, we estimate the cost of the proposed AD on U.S. operators to be $2,200,384, or $68,762 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-5871 (53 FR 7730, March 10, 1988) and adding the following new AD:

Airbus: Docket No. FAA-2009-0431; Directorate Identifier 2007-NM-174-AD.

Comments Due Date

(a) We must receive comments by June 8, 2009.

Affected ADs

(b) The proposed AD supersedes AD 88-06-03, Amendment 39-5871.

Applicability

(c) This AD applies to Airbus Model A310-203 and -222 airplanes, and Model A300 B4-620 airplanes; certificated in any category; all serial numbers except airplanes on which Airbus Modification 05526 has been incorporated in production.

Subject

(d) Air Transport Association (ATA) of America Code 53: Fuselage.

Reason

(e) The mandatory continuing airworthiness information (MCAI) states:

DGAC (Direction Générale de l'Aviation Civile) France AD 86-102-74(B) [which corresponds to FAA AD 88-06-03, amendment 39-5871] was issued to prevent development of damage, which was discovered during [a] fatigue test in the attachment angles of the rear pressure bulkhead (fuselage frame 80/82).

Following the life extension activities linked to the A310 program, the interval of inspection for A310-200 aircraft series was reduced from 12000 flight cycles (FC) to 9000 FC, which prompted the issuance of EASA AD 2007-0157, superseding DGAC France AD 86-102-74(B).

Some stress analysis conducted in the frame of the life extension activities of the A300-600 program leads the manufacturer to reduce as well the interval of inspection applicable to A300B4-620 and A300C4-620 aircraft models.

EASA AD 2007-0297 superseded EASA AD 2007-0157, retaining for A310 aircraft the requirements of EASA AD 2007-0157 and requiring the application of Airbus Service Bulletin (SB) A300-53-6005 Revision 4 on Airbus A300-600 aircraft, reducing the inspection interval from 12000 FC to 9000 FC.

[EASA] AD [2007-0297] has been revised to remove an inappropriate reference regarding the normal inspection program from the Compliance section, Note 3.

The unsafe condition is cracking in the attachment angles of the rear pressure bulkhead, which could result in failure of the rear pressure bulkhead. The required actions include a modification of the rear pressure bulkhead to improve the fatigue life of the attachment angles at frame (FR) 80/82; applicable related investigative and corrective actions; and, for certain airplanes, repetitive inspections for cracks in the rear pressure bulkhead and repair if necessary.

Requirements of This AD: Actions and Compliance

(f) Unless already done, do the following actions.

Modification

(1) Except as required by paragraph (f)(2) of this AD: Before the accumulation of 12,000 total flight cycles since first flight, or within 1,500 flight cycles after the effective date of this AD, whichever occurs later, modify the aft pressure bulkhead to improve the fatigue life of the attachment angles at frame 80/82 and do all applicable related investigative and corrective actions, in accordance with the Accomplishment Instructions of Airbus Service Bulletin A300-53-6006, Revision 3, dated March 24, 1989; or Airbus Service Bulletin A310-53-2025, Revision 06, dated August 3, 2006; as applicable. Do all applicable related investigative and corrective actions before further flight.

(2) For airplanes identified in paragraph (c) of AD 2006-22-03, amendment 39-14800: At the earlier of the compliance times specified in paragraphs (f)(2)(i) and (f)(2)(ii) of this AD, do the actions specified in paragraph (f)(1) of this AD.

(i) Before the accumulation of 12,000 total flight cycles since first flight, or within 1,500 flight cycles after the effective date of this AD, whichever occurs later.

(ii) At the compliance time specified in paragraph (h) of AD 2006-22-03.

Inspections and Corrective Action

(3) For airplanes on which the modification required by paragraph (f)(1) or (f)(2) of this AD is done after the accumulation of 6,000 total flight cycles since first flight: At the times specified in paragraphs (f)(3)(i) and (f)(3)(ii) of this AD, do an eddy current inspection for any cracking in the critical area of the rear pressure bulkhead between stringers 8 and 18, and repair all cracking before further flight, in accordance with the Accomplishment Instructions of Airbus A300-53-6005, Revision 04, dated July 18, 2007; or Airbus Service Bulletin A310-53-2024, Revision 05, dated October 13, 2006; as applicable.

(i) Before or concurrently with the modification required by paragraph (f)(1) or (f)(2) of this AD, as applicable; and

(ii) Before the accumulation of 18,000 total flight cycles since first flight, or within 1,500 flight cycles after the effective date of this AD, whichever occurs later; and thereafter at intervals not to exceed 9,000 flight cycles.

(4) For airplanes on which the modification required by paragraph (f)(1) or (f)(2) of this AD is done at or before the accumulation of 6,000 total flight cycles since first flight: Before the accumulation of 18,000 total flight cycles since first flight, or within 1,500 flight cycles after the effective date of this AD, whichever occurs later, do an eddy current inspection for any cracking in the critical area of the rear pressure bulkhead between stringers 8 and 18, and repair all cracking before further flight, in accordance with the Accomplishment Instructions of Airbus A300-53-6005, Revision 04, dated July 18, 2007; or Airbus Service Bulletin A310-53-2024, Revision 05, dated October 13, 2006; as applicable. Repeat the inspection thereafter at intervals not to exceed 9,000 flight cycles.

(5) Modifications done before the effective date of this AD in accordance with the service bulletins identified in Table 1 of this AD are acceptable for compliance with the requirements of paragraph (f)(1) and (f)(2) of this AD.

Table 1—Modifications Done Using Previous Service Bulletins
Model | Airbus Service Bulletin | Revision | Dated
A300 B4-620 airplanes | A300-53-6006 | Original | May 6, 1986.
| A300-53-6006 | 1 | September 19, 1986.
| A300-53-6006 | 2 | August 11, 1988.
A310-203 and -222 airplanes | A310-53-2025 | Original | April 21, 1986.
| A310-53-2025 | 1 | September 19, 1986.
| A310-53-2025 | 2 | February 16, 1987.
| A310-53-2025 | 3 | April 7, 1987.
| A310-53-2025 | 4 | October 20, 1987.
| A310-53-2025 | 5 | March 24, 1989.

(6) Inspections done before the effective date of this AD in accordance with the service bulletins identified in Table 2 of this AD are acceptable for compliance with the requirements of paragraph (f)(3) of this AD.

Table 2—Inspections Done With Previous Service Bulletins
Model | Airbus Service Bulletin | Revision | Dated
A300 B4-620 airplanes | A300-53-6005 | Original | May 6, 1986.
| A300-53-6005 | 1 | June 20, 1986.
| A300-53-6005 | 2 | September 22, 1986.
| A300-53-6005 | 3 | April 22, 1987.
A310-203 and -222 airplanes | A310-53-2024 | Original | April 21, 1986.
| A310-53-2024 | 1 | June 20, 1986.
| A310-53-2024 | 2 | October 2, 1986.
| A310-53-2024 | 3 | February 17, 1987.
| A310-53-2024 | 4 | February 2, 1988.

(7) Modification of the aft pressure bulkhead to improve the fatigue life of the attachment angles at frame (FR) 80/82 in accordance with paragraph (h) of AD 2006-22-03, is acceptable for compliance with the corresponding requirement of paragraphs (f)(1) and (f)(2) of this AD.

FAA AD Differences

Note 1: This AD differs from the MCAI and/or service information as follows: This AD includes a compliance time specified in paragraph (f)(2) of this AD for airplanes that are also affected by AD 2006-22-03. We realize that the requirements of this AD will necessitate that some operators do the modification required by paragraph (h) of AD 2006-22-03 early. However, accomplishing the modification within the compliance time specified in this AD is required to address cracking in the attachment angles of the rear pressure bulkhead, which could result in failure of the rear pressure bulkhead.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0297R1, dated September 17, 2008, and the service bulletins listed in Table 3 of this AD, for related information.

Table 3—Related Service Bulletins
Airbus Service Bulletin | Revision | Date
A310-53-2024 | 05 | October 13, 2006.
A310-53-2025 | 06 | August 3, 2006.
A300-53-6005 | 04 | July 18, 2007.
A300-53-6006 | 3 | March 24, 1989.

Issued in Renton, Washington, on May 1, 2009.
Stephen P. Boyd,
Acting Manager, Transport Airplane Directorate, Aircraft Certification Service.

[FR Doc. E9-10614 Filed 5-6-09; 8:45 am]

BILLING CODE 4910-13-P